DEPARTMENT OF DEFENSE

Office of the Secretary

Defense Business Board; Notice of Advisory Committee Meeting

AGENCY: Department of Defense, DoD.

ACTION: Notice of advisory committee meeting; Defense Business Board.

SUMMARY: The Defense Business Board (DBB) will meet in open session on Friday, May 6, 2005, at the Pentagon, Washington, DC from 1015 until 1130. The mission of the DBB is to advise the Senior Executive Council (SEC) and the Secretary of Defense on effective strategies for implementation of best business practices of interest to the Department of Defense. At this meeting, the Board's Management and Human Resources related task groups will deliberate on their findings and recommendations related to tasks assigned earlier this year by the Under Secretary (Comptroller) and the Deputy Secretary.

DATES: Friday, May 6, 2005, 1015 to 1130 hrs.

FOR FURTHER INFORMATION CONTACT: Members of the public who wish to attend the meeting must contact the Defense Business Board no later than Friday, April 29th for further information about admission as seating is limited. Additionally, those who wish to make oral comments or deliver written comments should also request to be scheduled, and submit a written text of the comments by Friday, April 29th to allow time for distribution to the Board members prior to the meeting. Individual oral comments will be limited to five minutes, with the total oral comment period not exceeding thirty-minutes.

The DBB may be contacted at: Defense Business Board, 1100 Defense Pentagon, Room 2E314, Washington, DC 20301-1100, via e-mail at stephan.smith@osd.mil, or via phone at (703) 614-7085.

Dated: April 7, 2005.
Jeanette Owings-Ballard,
OSD Federal Register Liaison Officer, Department of Defense.

[FR Doc. 05-7362 Filed 4-12-05; 8:45 am]

BILLING CODE 5001-06-P